DEPARTMENT OF COMMERCE

National Oceanic and Atmospheric Administration

50 CFR Part 648

[Docket No. 151211999-6343-02]

RIN 0648-XF713

Fisheries of the Northeastern United States; Northeast Multispecies Fishery; Georges Bank Cod Possession and Trip Limit Adjustment for the Common Pool Fishery

AGENCY: National Marine Fisheries Service (NMFS), National Oceanic and Atmospheric Administration (NOAA), Commerce.

ACTION: Temporary rule; inseason adjustment.

SUMMARY: This action decreases the possession and trip limits for Georges Bank cod for Northeast multispecies common pool vessels for the remainder of the 2017 fishing year, through April 30, 2018. Recent catch data reported through September 19, 2017, indicates that the common pool fishery has already caught 2.4 metric tons, or 65.7 percent, of the Trimester 2 Georges Bank cod Total Allowable Catch since the second trimester began on September 1, 2017. We project that, at its current trajectory, the common pool will catch its Trimester 2 TAC well before the end of the second trimester, and is also at risk of exceeding its annual 2017 quota. This possession and trip limit decrease is intended to prevent the common pool fishery from exceeding its allocation for this stock prior to the end of the fishing year.

DATES: This possession and trip limit decrease is effective September 28, 2017, through April 30, 2018.

FOR FURTHER INFORMATION CONTACT: Claire Fitz-Gerald, Fishery Management Specialist, (978) 281-9255.

SUPPLEMENTARY INFORMATION: The regulations at § 648.86(o) authorize the Regional Administrator to adjust the possession and trip limits for common pool vessels in order to help prevent the overharvest or underharvest of the common pool quotas.

Recent catch data reported through September 19, 2017, indicates that the common pool fishery has already caught 2.4 metric tons, or 65.7 percent, of the Trimester 2 Georges Bank (GB) cod Total Allowable Catch (TAC) since the second trimester began on September 1, 2017. The current GB cod possession and trip limit for GB cod is 250 pounds per DAS, and up to 500 pounds per trip. Under these possession limits, the common pool fishery caught its Trimester 1 TAC and triggered an area closure for GB cod on July 27, 2017. We project that, at its current trajectory, the common pool will catch its Trimester 2 TAC well before the end of the second trimester, and is also at risk of exceeding its annual 2017 quota. In the event that the common pool exceeds its 2017 quota, regulations require that the overage must be deducted from the following year's quota, which would have a negative economic impact on common pool vessels. Therefore, a decrease to the possession and trip limits is being implemented to help prevent the common pool fishery from exceeding its quota for the 2017 fishing year.

Effective September 28, 2017, the GB cod possession and trip limits are decreased to 25 lb (11.3 kg) per day and 50 lb (22.7 kg) per trip, as summarized in the table below. Common pool groundfish vessels that have declared their trip through the vessel monitoring system (VMS) or interactive voice response system, and crossed the VMS demarcation line prior to September 28, 2017, are not subject to the new possession and trip limits for that trip.

Table 1—New Possession and Trip Limits for GB Cod
Permit type | Current possession/trip limits | New possession/trip limits
Days-At-Sea (A DAS) | 250 lb (113.4 kg) per DAS, up to 500 lb (226.8 kg) per trip | 25 lb (11.3 kg) per DAS, up to 50 lb (22.6 kg) per trip.
Handgear A | 250 lb (113.4 kg) per trip | 25 lb (11.3 kg) per trip.
Handgear B | 25 lb (11.3 kg) per trip | Unchanged.
Small Vessel Category | 25 lb (11.3 kg) per trip, within combined 300 lb (136.1 kg) trip limit for cod, haddock, and yellowtail flounder | Unchanged.

Weekly quota monitoring reports for the common pool fishery are on our Web site at: http://www.greateratlantic.fisheries.noaa.gov/ro/fso/MultiMonReports.htm. We will continue to monitor common pool catch through vessel trip reports, dealer-reported landings, VMS catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The regulations at § 648.86(o) authorize the Regional Administrator to adjust the Northeast multispecies possession and trip limits for common pool vessels in order to help prevent the overharvest or underharvest of the pertinent common pool quotas. The catch data used as the basis for this action only recently became available. The available analysis indicates that the common pool fishery has already achieved 65.7 percent of its second trimester GB cod TAC within the first three weeks of the trimester and if the GB cod possession and trip limits are not reduced immediately, the common pool fishery may exceed its quota for this stock. This action reduces the probability of the common pool fishery exceeding its quota for GB cod. Any overages of the common pool quota for this stock would undermine conservation objectives and trigger the implementation of accountability measures that would have negative economic impacts on the common pool vessels. The time necessary to provide for prior notice and comment, and a 30-day delay in effectiveness, would prevent NMFS from implementing the necessary possession and trip limit adjustment in a timely manner, which could undermine conservation objectives of the Northeast Multispecies Fishery Management Plan, and cause negative economic impacts to the common pool fishery.

Authority: 16 U.S.C. 1801 et seq.

Dated: September 28, 2017.
Alan D. Risenhoover,
Director, Office of Sustainable Fisheries, National Marine Fisheries Service.

[FR Doc. 2017-21234 Filed 9-28-17; 4:15 pm]

BILLING CODE 3510-22-P